DEPARTMENT OF THE INTERIOR

Fish and Wildlife Service

Notice of Publication, Final Assessment Plan

AGENCY: Fish and Wildlife Service, Department of the Interior.

ACTION: Notice of publication.

SUMMARY: The U.S. Fish and Wildlife Service (Service), on behalf of the Department of the Interior (DOI), as a natural resource trustee, announces the publication of the Final Assessment Plan (AP) for the Natural Resource Damage Assessment and Restoration of the August 27, 1998, Clinch River Chemical Spill, Tazewell County, Virginia. The Final AP describes the DOI's proposal to assess natural resource injuries that resulted from this chemical spill.

ADDRESSES: Requests for copies of the Final AP may be made to: John Schmerfeld, U.S. Fish and Wildlife Service, Virginia Field Office, 6669 Short Lane, Gloucester, Virginia 23061.

FOR FURTHER INFORMATION CONTACT: John Schmerfeld, Environmental Contaminants Branch, U.S. Fish and Wildlife Service, Virginia Field Office, 6669 Short Lane, Gloucester, Virginia 23061. Interested parties may also call 804-693-6694. Ext. 107, or send e-mail to john_schmerfeld@fws.gov for further information.

SUPPLEMENTARY INFORMATION: On August 27, 1998, a tanker truck overturned on U.S. Route 460 in Tazewell County, Virginia. The truck released approximately 1,350 gallons of Octocure 554-revised, a rubber accelerant, into an unnamed tributary about 530 feet from its confluence with the Clinch River. Upon entry of the spill into the river, the river turned a snowy-white color. After the spilled substance passed downstream, observers noted evidence of an extensive fish kill and the destruction of most aquatic organisms from the area of the spill extending to at least 6.6 miles downstream. The Clinch River ecosystem ranks among the top areas of freshwater biodiversity in the world, and, prior to the spill, the affected portion of the Clinch housed a unique and diverse freshwater mussel assemblage that included three species that are federally listed as endangered.

Under the authority of the Comprehensive Environmental Response, Compensation and Liability Act of 1980, as amended (CERCLA), “natural resource trustees may assess damages to natural resources resulting from a discharge of oil or a release of a hazardous substance * * * and may seek to recover those damages.” Natural resource damage assessments are separate from the cleanup actions undertaken at a hazardous waste or spill site, and provide a process whereby the natural resource trustees can determine the proper compensation to the public for injury to natural resources. The natural resource damage assessment process seeks to: (1) Determine whether injury to, or loss of, trust resources has occurred; (2) ascertain the magnitude of the injury or loss; (3) calculate the appropriate compensation for the injury, including the cost of restoration; and (4) develop a restoration plan that will restore, rehabilitate, replace, and/or acquire equivalent resources for those resources that were injured or lost.

The Final AP presents the trustee's approaches for determining and quantifying natural resource injuries and calculating the damages associated with those injuries. By developing an AP, the trustee can ensure that the natural resource damage assessment will be completed at a reasonable cost relative to the magnitude of damages. This AP presents proposed assessment methodologies to potentially responsible parties, other trustees, affected agencies, and to the public, so that these groups can productively participate in the assessment process. The Final AP is being released in accordance with the Natural Resource Damage Assessment Regulations found at title 43 of the Code of Federal Regulations part 11.

A notice of availability of the Draft AP was published in the Federal Register on June 1, 2000, (volume 65, number 106, page 35120). The notice of availability indicated that the 30-day public comment period would end on July 1, 2000; however, comments were received and considered past that date. Comments received concerning the Draft AP are documented in chapter 8 of the Final AP.

The Draft AP indicated that a caged mussel study would be conducted as part of the damage assessment phase. After some consideration, the trustee determined that a pared-down translocation study was more appropriate due to a cost reduction of approximately 50 percent, a decreased probability of vandalism in the populated area, and indications that the sediment contaminant load in the impacted river reach has lessened over time. This change is considered to be minor and not of sufficient magnitude to warrant another 30 day public comment period. Details of the translocation study can be found in chapter 5 of the Final AP.

Interested members of the public may request copies of the Final AP from the U.S. Fish and Wildlife Service's Virginia Field Office at 6669 Short Lane, Gloucester, Virginia 23061. Additionally, the Final AP is available for review at the Tazewell County Main Library, 310 East Main Street, Tazewell, Virginia 24651, and the Tazewell County Library, Richlands Branch, 102 Suffolk Avenue, Richlands, Virginia 24641.

Author: The primary author of this notice is John Schmerfeld, U.S. Fish and Wildlife Service, Virginia Field Office at 6669 Short Lane, Gloucester, Virginia 23061.

Authority: The authority for this action is the Comprehensive Environmental Response, Compensation and Liability Act of 1980, as amended (“CERCLA”), 42 U.S.C.

Dated: May 8, 2001.
Linda J. Repasky,
Acting Regional Director, Region 5, U.S. Fish and Wildlife Service.

[FR Doc. 01-13652 Filed 5-30-01; 8:45 am]

BILLING CODE 4310-55-U